DEPARTMENT OF HEALTH AND HUMAN SERVICES

Administration for Children and Families

Submission for OMB Review; Comment Request

Title: Information Collection for HHS Certification of Foreign Adult Victims of Human Trafficking.

OMB No.: 0970-0454.

Description: The Trafficking Victims Protection Act, Public Law 106-386 (TVPA) requires the Department of Health and Human Services (HHS) to certify adult alien (“foreign”) victims of severe forms of trafficking in persons (“human trafficking”) who are willing to assist law enforcement in the investigation and prosecution of human trafficking, unless unable to cooperate due to physical or psychological trauma, and who have either made a bona fide application for T nonimmigrant status that has not been denied or been granted Continued Presence (CP) from the U.S. Department of Homeland Security (DHS). The Office on Trafficking in Persons (OTIP) within the HHS Administration for Children and Families issues HHS Adult Certification Letters that grant adult foreign victims of human trafficking eligibility for federal and state benefits and services to the same extent as refugees.

In general, OTIP initiates the certification process when it receives a notice from DHS that DHS has granted a foreign victim of trafficking CP or T nonimmigrant status, or has determined an application for T nonimmigrant status is bona fide. To issue HHS Adult Certification Letters, it is necessary for OTIP to collect information from a victim, or a victim's representative, such as an attorney, case manager, or law enforcement victim specialist, including an address to send the HHS Certification Letter.

OTIP will ask if the victim is in need of a case management services and the current location (city, state) of the victim, and refer the victim to an appropriate service provider in his or her area, if requested. OTIP will also ask about the victim's primary language and urgent concerns, such as medical care or housing, and transmit this information to the service provider with the victim's consent.

Finally, OTIP reports information on victim certification to provide to Congress in an annual report on U.S. Government activities to combat trafficking that is prepared by the U.S. Department of Justice. Congress requires HHS and other appropriate Federal agencies to report information on the number of persons who received benefits or other services under subsections (b) and (f) of section 7105 of Title 22 of the U.S. Code in connection with programs or activities funded or administered by HHS. HHS may include in these annual reports additional aggregate information that it collects about the victims when assisting each victim to obtain HHS Certification.

OTIP developed the form to facilitate the submission of consistent information and improve program reporting. The trafficking victim or his or her representative may submit the completed form, which we recommend be done via password-protected email or encryption, to OTIP for the purpose of issuing a Certification Letter. OTIP will store this information in OTIP's secure database for no longer than 10 years, at which time it will be destroyed, unless required for business use by HHS. Other details maintained in the victim's file may include OTIP staff actions, referrals, and notes regarding the victim's interest in receiving services. Maintaining victim records within OTIP's database will ensure efficient service delivery for victims, allow OTIP staff to track victims' progress toward certification, verify eligibility for benefits, and organize information for reporting aggregate data to Congress.

Respondents: Nongovernmental entities providing social or legal services, or victim/survivors of trafficking may use this form to submit a request for certification. The use of this form is optional; the victim or his/her representative has the option to make a request for certification via telephone or email.

Annual Burden Estimates
Instrument | Number of respondents | Number of responses per respondent | Average burden hours per response | Total burden hours
HHS Certification Instrument | 800 | 1 | .5 | 400

Estimated Total Annual Burden Hours: 400.

Additional Information

Copies of the proposed collection may be obtained by writing to the Administration for Children and Families, Office of Planning, Research and Evaluation, 330 C Street SW, Washington, DC 20201. Attention Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2018-24347 Filed 11-6-18; 8:45 am]

BILLING CODE 4184-01-P